DEPARTMENT OF DEFENSE

Department of the Army; Corps of Engineers

Intent To Prepare a Draft Environmental Impact Statement With an Integrated Feasibility Report for the Chesapeake Bay Shoreline Erosion Study, MD

AGENCY: Department of the Army, U.S. Army Corps of Engineers, DOD.

ACTION: Notice of intent.

SUMMARY: In accordance with the National Environmental Policy Act (NEPA), the Baltimore District, U.S. Army Corps of Engineers (USACE), will conduct a review of the 1990 Chesapeake Bay Shoreline Erosion Study to investigate shoreline erosion and related sediment management measures which could be undertaken to protect the water and land resources of the Chesapeake Bay watershed and achieve the water quality conditions necessary to protect the Bay's living resources. USACE will prepare a Draft Environmental Impact Statement (EIS) and integrated feasibility report documenting study findings and plan formulation.

FOR FURTHER INFORMATION CONTACT: Questions about the proposed DEIS with integrated feasibility report can be addressed to Mr. Kevin Luebke, U.S. Army Corps of Engineers, ATTN: CENAB-PL-P, 10 South Howard Street, P.O. Box 1715, Baltimore, MD 21203-1715, telephone 410-962-6141; e-mail address: Kevin.Luebke@usace.army.mil; or Mr. Christopher Spaur, same address, telephone 410-962-6134; e-mail address: Christopher.C.Spaur@usace.army.mil.

SUPPLEMENTARY INFORMATION: USACE is conducting this review in partnership with the Maryland Department of Natural Resources (DNR). The 1990 study evaluated erosive conditions along the Chesapeake Bay shoreline where publicly owned property and/or infrastructure were threatened. The 1990 study also investigated sources of sediment from shoreline that contribute to shoaling of public navigation channels.

Several efforts have been completed to date in the review. Conditions of the Maryland shoreline have been inventoried by the Virginia Institute of Marine Science and summary data and maps are now available on the worldwide Web at http://ccrm.vims.edu/gisdatabases.html. Wave energy has been modeled regionally for the study area shoreline by USACE. The U.S. Fish and Wildlife Service prepared a planning aid report identifying shoreline-dependent animal and plant species and important habitats. Efforts currently underway include: (1) Conducting a statistical analysis of historic shoreline change rates, modeled shoreline wave energy, and current shoreline to correlate relationships between these variables; (2) Forecasting shoreline areas likely to be vulnerable to future erosion; (3) Characterizing tidal tributary shoreline segments vulnerable to boat wake erosion; and (4) Formulating shoreline ecosystem restoration and public property and infrastructure storm/flood damage reduction projects for implementation by USACE, DNR, and other agencies or organizations. Engineering feasibility, economic costs and benefits, and environmental impacts will be considered in formulating projects. Additionally, the study partners, in conjunction with Md. Dept. of the Environment (MDE), initiated preparation of an updated shoreline erosion control handbook for waterfront property owners.

Study products will comprise components of a shoreline management master plan DNR and MDE are developing for the state of Maryland. The master plan would address issuance of stabilization permits for shoreline property owners, shoreline habitat restoration and conservation, and coastal flood and erosion hazard reduction. The USACE EIS and integrated feasibility report will provide an overview of the master plan and include environmental compliance documentation for specific projects USACE may pursue. Projects to be pursued independently by others would require separate environmental compliance efforts to be undertaken by other agencies and organization.

The study will be conducted in compliance with Sections 401 and 404 of the Clean Water Act, Section 7 of the Endangered Species Act, the Clean Air Act, the U.S. Fish and Wildlife Coordination Act, Section 106 of the National Historic Preservation Act, Prime and Unique Farmlands, the Magnuson-Stevens Fishery Conservation and Management Act, and the National Pollutant Discharge Elimination System Act. All appropriate documentation (i.e., coordination letters and public and agency comments) will be obtained and included as part of the EIS. As part of the EIS process, recommendations of projects will be based on an evaluation of the probable impact of the proposed activity on the public interest. The decision will reflect the national concern for the protection and utilization of important resources. The benefit, which may reasonably be expected to accrue from the proposal, will be balanced against its reasonably foreseeable detriments.

It is expected that public release of the DEIS and integrated feasibility report will occur in Summer 2009.

Brenda S. Bowen,
Army Federal Register Liaison Officer.

[FR Doc. 07-2114 Filed 4-30-07; 8:45 am]

BILLING CODE 3710-41-M